DEPARTMENT OF COMMERCE

International Trade Administration

[A-201-817]

Oil Country Tubular Goods from Mexico: Extension of Time Limits for the Preliminary Results of Antidumping Duty Administrative Review

AGENCY: Import Administration, International Trade Administration, Department of Commerce.

EFFECTIVE DATE: May 3, 2007.

FOR FURTHER INFORMATION CONTACT: John Drury, or Angelica Mendoza, AD/CVD Operations, Office 7, Import Administration, International Trade Administration, U.S. Department of Commerce, 14th Street and Constitution Avenue, NW., Washington DC 20230; telephone: (202) 482-0195, or (202) 482-3019, respectively.

SUPPLEMENTARY INFORMATION:

Background

On September 29, 2006, the Department of Commerce (“the Department”) published a notice of initiation of an antidumping duty administrative review for, oil country tubular goods (OCTG) from Mexico for the August 1, 2005, through July 31 2006, period of review (POR) covering producers/exporters Hylsa, S.A. de C.V. (Hylsa) and Tubos de Acero de Mexico, S.A. (TAMSA). See Initiation of Antidumping and Countervailing Duty Administrative Reviews, 71 FR 57465 (September 29, 2006). On November 1, 2006, TAMSA submitted a certification that it had not shipped OCTG to the United States during the POR and requested that the Department rescind the review with respect to TAMSA. See Letter from TAMSA to the Department, November 1, 2006.

On November 15, 2006, Hylsa submitted a letter to the Department stating that shares of Hylsa's parent, Hylsamex, had been acquired by a company affiliated with TAMSA. Accordingly, Hylsa and TAMSA had common owners and were affiliated during the POR. As a result, Hylsa requested clarification from the Department as to whether the Department would require Hylsa to submit TAMSA's sales and/or cost information for the POR. See Letter from Hylsa to the Department, November 15, 2006. The Department issued a supplemental questionnaire on February 16, 2007, requesting more information on this issue. Hylsa submitted a response on March 16, 2007.

The preliminary results for this administrative review are currently due no later than May 3, 2007.

Extension of Time Limits for Preliminary Results

Section 751(a)(3)(A) of the Tariff Act of 1930, as amended (the Act), requires the Department to complete the preliminary results of an administrative review within 245 days after the last day of the anniversary month of an order for which a review is requested. However, if it is not practicable to complete the review within these time periods, section 751(a)(3)(A) of the Act allows the Department to extend the 245 day time period for the preliminary results to 365 days.

The Department has determined it is not practicable to complete this review within the statutory time limit because additional time is required to determine whether it will be necessary to request sales and/or cost information from TAMSA as part of the Department's review of sales by Hylsa during the POR. Accordingly, the Department is extending the time limits for completion of the preliminary results of this administrative review until no later than August 31, 2007, which is 365 days from the last day of the anniversary month of this order. We intend to issue the final results in this review no later than 120 days after publication of the preliminary results notice.

This notice is issued and published in accordance with sections 751(a)(3)(A) and 777(i)(1) of the Act.

Dated: April 27, 2007.
Stephen Claeys,
Deputy Assistant Secretary for Import Administration.

[FR Doc. E7-8480 Filed 5-2-07; 8:45 am]

BILLING CODE 3510-DS-S